FEDERAL COMMUNICATIONS COMMISSION

47 CFR Part 73

[DA 03-2573; MB Docket No. 02-316, RM-10542]

Radio Broadcasting Services; Cedar Bluff, VA and Gary, WV

AGENCY: Federal Communications Commission.

ACTION: Final rule.

SUMMARY: The Commission, at the request of Monterey Licenses, LLC, reallots Channel 299C3 from Cedar Bluff, Virginia to Gary, West Virginia, and modifies Station WHQX(FM)'s license accordingly. See 67 FR 64853, October 22, 2002. Channel 299C3 can be allotted to Gary in compliance with the Commission's minimum distance separation requirements at petitioner's presently authorized site. The coordinates for Channel 299C3 at Gary are 37-08-00 North Latitude and 81-35-43 West Longitude.

DATE: Effective September 15, 2003.

ADDRESSES: Federal Communications Commission, Washington, DC 20554.

FOR FURTHER INFORMATION CONTACT: Sharon P. McDonald, Media Bureau, (202) 418-2180.

SUPPLEMENTARY INFORMATION: This is a synopsis of the Commission's Report and Order, MB Docket No. 02-316, adopted July 30, 2003, and released August 1, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 54, 303, 334 and 336.

§ 73.202 [Amended]

2. Section 73.202(b), the Table of FM Allotments under Virginia, is amended by removing Cedar Bluff, Channel 299C3.

3. Section 73.202(b), the Table of FM Allotments under West Virginia, is amended by adding Gary, Channel 299C3.

Federal Communications Commission.
John A. Karousos,
Assistant Chief, Audio Division, Media Bureau.

[FR Doc. 03-20947 Filed 8-15-03; 8:45 am]

BILLING CODE 6712-01-P